NATIONAL SCIENCE FOUNDATION

Sunshine Act Meetings; National Science Board

The National Science Board, pursuant to NSF regulations (45 CFR part 614), the National Science Foundation Act, as amended, (42 U.S.C. 1862n-5), and the Government in the Sunshine Act (5 U.S.C. 552b), hereby gives notice of the scheduling of meetings for the transaction of National Science Board business as follows:

Date and Time: February 2, 2016 from 8:00 a.m. to 5:10 p.m., and February 3, 2016 from 8:50 a.m. to 1:30 p.m. EST.

Place: These meetings will be held at the National Science Foundation, 4201 Wilson Blvd., Room 1235, Arlington, VA 22230. All visitors must contact the Board Office (call 703-292-7000 or send an email to nationalsciencebrd@nsf.gov) at least 24 hours prior to the meeting and provide your name and organizational affiliation. Visitors must report to the NSF visitors desk in the lobby of the 9th and N. Stuart Street entrance to receive a visitor's badge.

Webcast Information: Public meetings and public portions of meetings will be webcast. To view the meetings, go to http://www.tvworldwide.com/events/nsf/160202/ and follow the instructions.

Updates: Please refer to the National Science Board Web site for additional information. Meeting information and schedule updates (time, place, subject matter or status of meeting) may be found at http://www.nsf.gov/nsb/meetings/notices.jsp.

Agency Contact: Ron Campbell, jrcampbe@nsf.gov, 703-292-7000.

Public Affairs Contact: Nadine Lymn, nlymn@nsf.gov, 703-292-2490.

Status: Portions open; portions closed.

Open Sessions:

February 2, 2016

8:00-8:30 a.m. (Plenary introduction, NSB Chair and NSF Director Reports)

8:30-10:10 a.m. (CPP)

11:30-11:45 a.m. (Plenary)

1:50-2:35 p.m. (Joint meeting CPP, CSB and SCF)

3:40-4:10 p.m. (SCF)

4:10-5:10 p.m. (AO)

February 3, 2016

8:50-9:50 a.m. (SEI)

9:50-10:05 a.m. (CSB)

1:00-1:30 p.m. (Plenary)

Closed Sessions:

February 2, 2016

10:25-11:25 a.m. (CPP)

12:50-1:50 p.m. (Plenary)

2:40-3:25 p.m. (Joint meeting CPP, CSB and SCF)

February 3, 2016

10:10-10:50 a.m. (CSB)

11:15-11:30 a.m. (Plenary executive)

12:30-1:00 p.m. (Plenary)

Matters to be Discussed:

Tuesday, February 2, 2016

Plenary Board Meeting

Open Session: 8:00-8:30 a.m.

Introduction and NSB Chair's Report

NSF Director's Report

Committee on Programs and Plans (CPP)

Open Session: 8:30-10:10 a.m.

CPP Chair's remarks

Arctic contract update

CY 2016 schedule of planned action and information items

Information item—Extreme Science and Engineering Discovery Environment (XSEDE)

Information item—National Superconducting Cyclotron Laboratory (NSCL)

Approval of open CPP minutes for November 2015

Information item—Update on icebreaker support for McMurdo Station

Information item—iPlant

An overview of infrastructure investments in the Mathematical and Physical Sciences Directorate

CPP Chair's closing remarks

Committee on Programs and Plans

Closed Session: 10:25-11:25 a.m.

CPP Chair's remarks

Approval of closed CPP minutes for November 2015

NSB action item—Gemini Observatory

NSB action item—Stampede 2

CPP Chair's closing remarks

Plenary Board Meeting

Open Session: 11:30-11:45 a.m.

NSB Chair's remarks

Guest speaker—Senator Gary Peters

NSB Chair's closing remarks

Plenary Board Meeting

Closed Session: 12:50-1:50 p.m.

NSB Chair's remarks

NEON update and next steps

NSB Chair's closing remarks

Joint Meeting—Committee on Programs and Plans, Committee on Strategy and Budget and Subcommittee on Facilities

Open Session: 1:50-2:35 p.m.

Committee Chairs' remarks

Discussion of facilities planning

Committee Chair's closing remarks

Joint Meeting—Committee on Programs and Plans, Committee on Strategy and Budget, and Subcommittee on Facilities

Closed Session: 2:40-3:25 p.m.

Committee Chairs' remarks

Discussion of facilities planning, including future planning and budgets

Discussion of emerging needs in science and engineering

Chairs' closing remarks

Subcommittee on Facilities (SCF)

Open Session: 3:40-4:10 p.m.

SCF Chair's remarks

Approval of open SCF minutes from November 2015

Discussion of SCF's roles and responsibilities

Discussion of SCF 2016 activities

SCF Chair's closing remarks

Committee on Audit and Oversight (A&O)

Open Session: 4:10-5:10 p.m.

A&O Chair's remarks

Approval of open A&O minutes from November 2015

Update on NAPA report

Inspector General's update, including Presentation on FY 2015 Financial Statement and FISMA audit results

Chief Financial Officer's update, including Presentation on internal control quality assurance program

Update on two-month salary support compensation policy

A&O Chair's closing remarks

Matters To Be Discussed

Wednesday, February 3, 2016

Committee on Science and Engineering Indicators (SEI)

Open Session: 8:50-9:50 a.m.

SEI Chair's remarks

Approval of open SEI minutes for January 5, 2016 teleconference

Update on Science and Engineering Indicators 2016 outreach

Update and discussion of the Science and Engineering Indicators 2016 companion briefs

Update and discussion of proposed workshop: “Future of Science and Engineering Indicators”

SEI Chair's closing remarks

Committee on Strategy and Budget (CSB)

Open Session: 9:50-10:05 a.m.

CSB Chair's remarks

Approval of open CSB minutes for November 2015

NSF FY 2016 budget update

CSB Chair's closing remarks

Committee on Strategy and Budget

Closed Session: 10:10-10:50 a.m.

CSB Chair's remarks

Approval of closed CSB minutes for November 2015

NSF FY 2016 budget issues under negotiation

NSF FY 2017 budget request update

Discussion of Board's FY 2017 budget testimony

CSB Chair's closing remarks

Plenary Board (Executive)

Closed Session: 11:15-11:30 a.m.

NSB Chair's remarks

Approval of closed executive minutes for November and December 2015

Elections Committee update

NOMS Committee report

NSB Chair's closing remarks

Plenary Board

Closed Session: 12:30-1:00 p.m.

NSB Chair's remarks

Approval of closed plenary minutes for November 2015

Approval of Stampede 2 preliminary resolution

Approval of Gemini preliminary resolution

Closed committee reports

NSB Chair's closing remarks

Plenary Board

Open Session: 1:00-1:30 p.m.

NSB Chair's remarks

NSF Director's remarks

Approval of open plenary minutes for November 2015

NEON update from the Chair of the ad hoc task force on NEON Performance and Plans

Open committee reports

NSB Chair's closing remarks

Meeting Adjourns: 1:30 p.m.

Kyscha Slater-Williams,
Program Specialist, National Science Board.

[FR Doc. 2016-01757 Filed 1-27-16; 4:15 pm]

BILLING CODE 7555-01-P